DEPARTMENT OF STATE

[Public Notice 5906]

Notice of Meeting of the Cultural Property Advisory Committee

In accordance with the provisions of the Convention on Cultural Property Implementation Act (19 U.S.C. 2601 et seq.) (the Act) there will be a meeting of the Cultural Property Advisory Committee on Thursday, October 4, 2007, from approximately 9 a.m. to 5 p.m., and on Friday, October 5, from approximately 9 a.m. to 1 p.m., at the Department of State, Annex 44, Room 840, 301 4th St., SW., Washington, DC. At this meeting the Committee will conduct its ongoing review function with respect to the Memorandum of Understanding Between the Government of the United States of America and the Government of the Kingdom of Cambodia Concerning the Imposition of Import Restrictions on Khmer Archaeological Material; and, with respect to the Memorandum of Understanding with the Government of the Republic of Honduras Concerning the Imposition of Import Restrictions on Archaeological Material from the Pre-Columbian Cultures of Honduras. This meeting is for the Committee to satisfy its ongoing review responsibility of the effectiveness of agreements pursuant to the Act and will focus its attention on Article II of the MOUs. This is not a meeting to consider extension of the MOUs. Such a meeting will be scheduled in the future at which time a public session will be held.

The Committee's responsibilities are carried out in accordance with provisions of the Convention on Cultural Property Implementation Act (19 U.S.C. 2601 et seq.). The U.S.-Cambodia MOU, the U.S.-Honduras MOU, the designated lists of restricted categories, the text of the Act, and related information may be found at http://exchanges.state.gov/culprop.

The meeting on October 4-5 will be closed pursuant to 5 U.S.C. 552b(c)(9)(B) and 19 U.S.C. 2605(h).

Dated: August 31, 2007.
C. Miller Crouch,
Acting Assistant Secretary for Educational and Cultural Affairs, Department of State.

[FR Doc. E7-17871 Filed 9-10-07; 8:45 am]

BILLING CODE 4710-05-P